SECURITIES AND EXCHANGE COMMISSION

Sunshine Act Meetings

FEDERAL REGISTER CITATION OF PREVIOUS ANNOUNCEMENTS: 85 FR 51106, August 19, 2020 and 85 FR 53898, August 31, 2020.

PREVIOUSLY ANNOUNCED TIME AND DATE OF THE MEETINGS: Wednesday, September 2, 2020 and September 16, 2020 at 10:00 a.m.

CHANGES IN THE MEETING: The Open Meeting scheduled for Wednesday, September 16, 2020 at 10:00 a.m. has been postponed to Wednesday, September 23, 2020 at 10:00 a.m. The following additional matter, previously scheduled for consideration on September 2, 2020, will also be considered during the Open Meeting:

• The Commission will consider whether to adopt amendments to the Commission's rules implementing its whistleblower program that would enhance claim processing efficiency, and clarify and bring greater transparency to the framework used by the Commission in exercising its discretion in determining award amounts, as well as otherwise address specific issues that have developed during the whistleblower program's history. The amendments reflect the Commission's experience administering the program over the past decade. The Commission will also consider whether to adopt interpretive guidance concerning the term “independent analysis” in the Commission's rules implementing its whistleblower program.

CONTACT PERSON FOR MORE INFORMATION: For further information and to ascertain what, if any, matters have been added, deleted or postponed, please contact the Office of the Secretary at (202) 551-5400.

Dated: September 15, 2020.
Vanessa A. Countryman,
Secretary.

[FR Doc. 2020-20679 Filed 9-15-20; 4:15 pm]

BILLING CODE 8011-01-P